Proclamation 10883 of January 15, 2025

Religious Freedom Day, 2025

By the President of the United States of America

A Proclamation

Faith sustains many of us across our Nation, sharpening our sense of purpose, uniting us in shared belief, and reminding us of our obligations to each other. Whether you worship in a church, synagogue, temple, or mosque, the Constitution of the United States protects every American's right to practice their faith freely or to practice no faith at all. Today, we celebrate our constitutional right to religious freedom which makes us a beacon of liberty and recommit to protecting that right, both here at home and around the world.

We are all blessed to live in a Nation that is home to people of many faiths. However, even in our land of liberty, too many people are afraid that practicing their faith will bring fear, violence, and intimidation. Over the past year, we have seen a shocking rise in antisemitism in the wake of Hamas's terrorist attack against Israel and a disturbing rise in Islamophobia. Hate has no safe harbor here in America. And around the world, minority communities continue to live in fear of violence and are denied equal protections under the law, including Christians in some countries.

My Administration is committed to ensuring that people of every faith and belief can live out their deepest conviction freely, peacefully, and safely. Working with the Congress, my Administration secured the largest ever increase in funding for the physical security of non-profit organizations, including places of worship. Through that program and many related efforts, we continue to work across government to ensure that all religious communities are able to practice their faith without fear. Additionally, I created the inter-agency group to counter Antisemitism, Islamophobia, and Related Forms of Bias and Discrimination within the United States. We released the first-ever United States National Strategy to Counter Antisemitism, which works to counter antisemitism and protect Jewish communities. We also released the first-ever National Strategy to Counter Islamophobia and Anti-Arab Hate, which works to combat these forms of hate and safeguard Muslim and Arab Americans. Both strategies seek to strengthen coalitions across religious communities to bring an end to hate.

We are also working to promote and protect religious freedom worldwide, because it is not only an American constitutional right—it is a human right, enshrined in the Universal Declaration of Human Rights. And so, around the globe, we are working with governments and organizations to end discrimination against religious groups. My Administration has provided $100 million to promote religious freedom worldwide. We have also provided hundreds of millions more to support victims fleeing religious repression. And we have been cracking down on forced labor, which is often connected to the targeting of religious minorities. My Administration sanctioned more than 240 individuals and entities for serious human rights abuses under the Global Magnitsky Sanctions Program. The Office of the Special Envoy to Monitor and Combat Antisemitism at the Department of State promoted the United States-led “Global Guidelines for Countering Antisemitism,” a set of international best practices for effective public policy against antisemitism, which more than 40 countries and entities have endorsed. My Administration also ended the discriminatory travel ban that prevented individuals from several Muslim-majority and African countries from entering the United States. And the Department of State conducted a review of visa applications and took various corrective actions to process applications that were impacted by that ban, including reconsidering previously denied applications.

Today, we recognize how religious freedom is at the core of who we are as a Nation. It is central to the freedom we offer all Americans. And it is threaded throughout all our work to advance human freedom and dignity in the world. The task for all of us is to defend and protect religious liberty for everyone, to build a world where no one is endangered for what they believe, and to see one another as neighbors.

NOW, THEREFORE, I, JOSEPH R. BIDEN JR., President of the United States of America, by virtue of the authority vested in me by the Constitution and laws of the United States, do hereby proclaim January 16, 2025, as Religious Freedom Day.

IN WITNESS WHEREOF, I have hereunto set my hand this fifteenth day of January, in the year of our Lord two thousand twenty-five, and of the Independence of the United States of America the two hundred and forty-ninth.

[FR Doc. 2025-01465

Filed 1-16-25; 2:00 pm]

Billing code 3395-F4-P